SMALL BUSINESS ADMINISTRATION

Interest Rates

The Small Business Administration publishes an interest rate called the optional “peg” rate (13 CFR 120.214) on a quarterly basis. This rate is a weighted average cost of money to the government for maturities similar to the average SBA direct loan. This rate may be used as a base rate for guaranteed fluctuating interest rate SBA loans. This rate will be 5.250 (5¼) percent for the October-December quarter of FY 2002.

LeAnn M. Oliver,
Deputy Associate Administrator for Financial Assistance.

[FR Doc. 01-24552 Filed 10-1-01; 8:45 am]

BILLING CODE 8025-01-P